DEPARTMENT OF TRANSPORTATION

Federal Aviation Administration

Public Meeting/Notice of Availability for Proposed Air Tour Management Plans at Bandelier National Monument; Great Smoky Mountains National Park; Arches National Park; Glacier National Park; Canyonlands National Park; Natural Bridges National Monument; and Bryce Canyon National Park

AGENCY: Federal Aviation Administration (FAA), Transportation.

ACTION: Public meeting/notice of availability for draft Air Tour Management Plans at Bandelier National Monument; Great Smoky Mountains National Park; Arches National Park; Glacier National Park; Canyonlands National Park; Natural Bridges National Monument; and Bryce Canyon National Park.

SUMMARY: The FAA, in cooperation with the National Park Service (NPS), has initiated development of Air Tour Management Plans (ATMPs) for Bandelier National Monument, Great Smoky Mountains National Park, Arches National Park, Glacier National Park, Canyonlands National Park, Natural Bridges National Monument, and Bryce Canyon National Park (collectively referred to as the Parks) pursuant to the National Parks Air Tour Management Act of 2000 (the Act) and its implementing regulations. The Act requires that in developing an ATMP for a national park or tribal lands, the FAA and the NPS must hold at least one public meeting with interested parties. In addition, the Act requires that the ATMPs be published in the Federal Register for notice and comment and that copies be made available to the public. This notice announces the public availability of the proposed ATMPs for comment and public meetings for each of the Parks. The purpose of these meetings is to review the proposed ATMPs and further ATMP development with the public. In accordance with the National Historic Preservation Act, the FAA and the NPS are also seeking public comment on the potential of the proposed ATMPs to cause adverse effects to historic properties.

DATES:

Comment Period: Comments must be received on or before 30 days from this notice. Comments will be received on the NPS Planning, Environment and Public Comment System (PEPC) website. Each park's website link is below:

• Bandelier National Monument— https://parkplanning.nps.gov/BandelierATMP

• Great Smoky Mountains National Park— https://parkplanning.nps.gov/GreatSmokyMountainsATMP

• Arches National Park— https://parkplanning.nps.gov/ArchesATMP

• Glacier National Park— https://parkplanning.nps.gov/GlacierATMP

• Canyonlands National Park— https://parkplanning.nps.gov/CanyonlandsATMP

• Natural Bridges National Monument— https://parkplanning.nps.gov/NaturalBridgesATMP

• Bryce Canyon National Park— https://parkplanning.nps.gov/BRCAATMP

Meetings: The meetings will be held at the following dates and times:

• Wednesday, September 15, 2021 (4:30-6:00 p.m. MT)—Bandelier National Monument

Livestream: https://youtu.be/6OETrpLMwco

• Thursday, September 16, 2021 (4:30-6:00 p.m. ET)—Great Smoky Mountains National Park

Livestream: https://youtu.be/BIIt8gzNVVA

• Monday, September 20, 2021 (4:30-6:00 p.m. MT)—Arches National Park

Livestream: https://youtu.be/xAvPYYeKDwE

• Tuesday, September 21, 2021 (4:30-6:00 p.m. MT)—Glacier National Park

Livestream: https://youtu.be/bYpPbrFK3Rk

• Wednesday, September 22, 2021 (4:30-6:00 p.m. MT)—Canyonlands National Park

Livestream: https://youtu.be/MwWe0y1wLGc

• Thursday, September 23, 2021 (4:30-6:00 p.m. MT)—Natural Bridges National Monument

Livestream: https://youtu.be/qD4Tm6IDdrM

• Monday, September 27, 2021 (2:30-4:00 p.m. MT)—Bryce Canyon National Park

Livestream: https://youtu.be/4_myJpTAgVQ

ADDRESSES: The meetings will be held virtually. Members of the public who wish to observe the virtual meetings can access the livestream from either of the following FAA social media platforms on the day of the event, https://www.facebook.com/FAA, https://twitter.com/FAANews or https://www.youtube.com/FAAnews.

FOR FURTHER INFORMATION CONTACT: Any request for reasonable accommodations should be sent to the person listed on the parks' PEPC sites.

SUPPLEMENTARY INFORMATION: The FAA is issuing this notice pursuant to the National Parks Air Tour Management Act of 2000 (Pub. L. 106-181 (https://www.govinfo.gov/link/plaw/106/public/181?link-type=html) and its implementing regulations contained in Title 14, Code of Federal Regulations, Part 136, Subpart B, National Parks Air Tour Management. The objective of any ATMP must be to provide acceptable and effective measures to mitigate or prevent the significant adverse impacts, if any, of commercial air tour operations upon the natural and cultural resources, visitor experiences, and tribal lands. Further, an ATMP must comply with National Environmental Policy Act (NEPA) and its accompanying regulations and the Act designates the FAA as the lead agency for that purpose. The FAA and the NPS are inviting comment from the public, Federal and state agencies, tribes, and other interested parties on the proposed ATMPs for Bandelier National Monument, Great Smoky Mountains National Park, Arches National Park, Glacier National Park, Canyonlands National Park, Natural Bridges National Monument, and Bryce Canyon National Park. Any Indian tribe whose tribal lands are, or may be, overflown by aircraft involved in a commercial air tour operation over the park or tribal lands to which the ATMP applies, will be invited to participate in the NEPA process as a cooperating agency.

The FAA and the NPS have determined that each ATMP constitutes a Federal undertaking subject to compliance with Section 106 of the National Historic Preservation Act and its implementing regulations (36 CFR part 800). The FAA and the NPS are consulting with tribes, State and Tribal Historic Preservation Officers, and other interested parties to identify historic properties and assess the potential effects of ATMPs on them.

The meetings will be open to the public and livestreamed. Members of the public who wish to observe the virtual meetings can access the livestream from either of the following FAA social media platforms on the day of the event, https://www.facebook.com/FAA (https://www.facebook.com/FAA), https://twitter.com/FAANews (https://twitter.com/FAANews) or https://www.youtube.com/FAAnews (https://www.youtube.com/FAAnews). The U.S. Department of Transportation is committed to providing equal access to the meetings for all participants. If you need alternative formats or services because of a disability, such as sign language, interpretation, or other ancillary aids, please contact the person listed in the FOR FURTHER INFORMATION CONTACT section.

The FAA and the NPS request that comments be as specific as possible in response to actions that are being proposed under this notice. All written comments become part of the official record. Written comments on the proposed ATMPs can be submitted via PEPC or sent to the mailing addresses listed in the FOR FURTHER INFORMATION CONTACT sections provided on the parks' PEPC sites. Comments will not be accepted by fax, email, or any other way than those specified above. Before including your address, phone number, email address, or other personal identifying information in your comment, you should be aware that your entire comment—including your personal identifying information—may be made publicly available at any time. While you can ask us in your comment to withhold your personal identifying information from public review, we cannot guarantee that we will be able to do so.

Documents that describe each Park's proposed ATMP project in greater detail are available at the following locations:

• FAA Air Tour Management Plan Program website, http://www.faa.gov/about/office_org/headquarters_offices/arc/programs/air_tour_management_plan/

• NPS Planning, Air Tours website, https://home.nps.gov/subjects/sound/airtours.htm

Issued in El Segundo, CA. On August 31, 2021.
Keith Lusk,
Program Manager, Special Programs Staff, Western-Pacific Region.

[FR Doc. 2021-19059 Filed 9-2-21; 8:45 am]

BILLING CODE 4910-13-P